DEPARTMENT OF HOUSING AND URBAN DEVELOPMENT

24 CFR Parts 91 and 576

[Docket No. FR-5474-C-02]

RIN 2506-AC31

Homeless Emergency Assistance and Rapid Transition to Housing: Emergency Solutions Grants Program and Consolidated Plan Conforming Amendments; Correction

AGENCY: Office of the General Counsel, HUD.

ACTION: Interim rule; correction.

SUMMARY: The document advises that the interim rule for the Emergency Solutions Grants program, published on December 5, 2011, displayed an incorrect RIN number. This document advises of the correct RIN number, 2506-AC31, as displayed in the heading of this document.

DATES: This correction is effective May 16, 2012.

FOR FURTHER INFORMATION CONTACT: Camille E. Acevedo, Associate General Counsel for Legislation and Regulations, Office of General Counsel, Department of Housing and Urban Development, 451 7th Street SW., Room 10282, Washington, DC 20410-0500; telephone number 202 708-1793 (this is not a toll-free number). Hearing- and speech-impaired persons may access this number through TTY by calling the Federal Relay Service at 800-877-8339 (this is a toll-free number).

SUPPLEMENTARY INFORMATION: On December 5, 2011, at 76 FR 75954, HUD published its interim rule on the Emergency Solutions Grants program. The heading for this rule displayed a RIN number of 2506-AC29, which was incorrect. RIN number 2506-AC29 is already assigned to another HUD rule, but not yet published, on HUD's Continuum of Care program. The correct RIN number for the Emergency Solutions Grant interim rule is 2506-AC31, and this document advises of the correction.

Dated: May 10, 2012.
Camille E. Acevedo,
Associate General Counsel for Legislation and Regulations.

[FR Doc. 2012-11868 Filed 5-15-12; 8:45 am]

BILLING CODE 4210-67-P